DEPARTMENT OF ENERGY

Federal Energy Regulatory Commission

[Docket No. EC04-65-000, et al.]

GenWest LLC, et al.; Electric Rate and Corporate Filings

May 27, 2004.

The following filings have been made with the Commission. The filings are listed in ascending order within each docket classification.

1. GenWest LLC

[Docket Nos. EC04-65-000 and ER04-820-001]

Take notice that on May 21, 2004, GenWest LLC (GenWest) informed the Commission that the authorization granted by the Commission on March 30, 2004, in Docket No. EC04-65-000 to dispose of a 25 percent ownership interest in GenWest's Silverhawk Generating Facility to Southern Nevada Water Authority was consummated by a transaction on May 17, 2004. In addition, GenWest submitted an amendment to the Build-Transfer Agreement between GenWest and SWNA.

GenWest also filed an amendment to its May 7, 2004, filing in Docket No. ER04-820-000 of a Co-Tenancy Agreement between itself and SNWA, designated GenWest LLC, Original Rate Schedule FERC No. 2. GenWest requests a May 17, 2004, effective date for Rate Schedule No. 2.

Comment Date: June 11, 2004.

2. Naniwa Energy LLC

[Docket No. EC04-112-000]

Take notice that on May 24, 2004, Naniwa Energy LLC (Naniwa) filed with the Federal Energy Regulatory Commission an application pursuant to section 203 of the Federal Power Act for authorization of a disposition of jurisdictional facilities, whereby KPIC North America Corporation's ownership interest in Naniwa would be transferred to Naniwa Terminal LLC. Naniwa has requested privileged treatment of certain information and documentation submitted with the application.

Comment Date: June 14, 2004.

3. Mesquite Investors, L.L.C. and Newmarket Power Company, L.L.C.

[Docket No. EC04-113-000]

Take notice that on May 24, 2004, Mesquite Investors, L.L.C. (Mesquite) and Newmarket Power Company, L.L.C. (Newmarket) (jointly, Applicants) filed with the Federal Energy Regulatory Commission an application pursuant to section 203 of the Federal Power Act for authorization for Mesquite to transfer to Newmarket all of Mesquite's membership interests in Bayonne Plant Holding, L.L.C. (Bayonne), Camden Plant Holding, L.L.C. (Camden), and Newark Bay Holding Company, L.L.C. (Newark Holding) (the Proposed Transaction) and for the potential sale of interests in Newmarket to passive investors. Applicants state that the proposed transaction will result in a change of control over the jurisdictional facilities owned directly by Bayonne and Camden, and indirectly by Newark Holding and its wholly-owned subsidiary, Liberty View Power, L.L.C.

Comment Date: June 14, 2004.

4. SE Ravenswood Trust

[Docket No. EG04-72-000]

Take notice that on May 25, 2004, SE Ravenswood Trust (Applicant), tendered for filing an Application for Determination of Exempt Wholesale Generator Status pursuant to part 365 of the Commission's regulations.

Applicant states that it is a Delaware entity formed to own and lease Ravenswood Unit 40, an approximately 250 MW generating facility located in Long Island City, New York. The New York Public Service Commission has determined that Ravenswood Unit 40 and its related equipment are eligible facilities in Case 04-E-0195, Order Authorizing Transaction and Providing for Other Relief (May 3, 2004).

Applicant states that copies of the filing were served upon the United States Securities and Exchange Commission and the New York State Public Service Commission.

Comment Date: June 15, 2004.

5. Sithe Energy Marketing, L.P., AG-Energy, L.P., Power City Power Partners, L.P., Seneca Power Partners, L.P., Sterling Power Partners, L.P., and Sithe/Independence Power Partners, L.P.

[Docket Nos. ER02-2202-005, ER98-2782-006, and ER03-42-006]

Take notice that on April 23, 2004, Sithe Energy Marketing, L.P., AG-Energy, L.P., Power City Power Partners, L.P., Seneca Power Partners, L.P., Sterling Power Partners, L.P. and Sithe/Independence Power Partners, L.P. (together, the Sithe Entities) submitted an updated triennial market power report and report of changes in status. Sithe Entities state that in this filing, they also request a waiver of the Commission's recent changes to its requirements for market power assessments or, in the alternative, an extension of time to submit additional market power assessments.

Comment Date: June 8, 2004.

6. Pacific Gas and Electric Company

[Docket Nos. ER04-142-001, ER04-143-001, and ER04-295-001]

Take notice that on May 24, 2004, Pacific Gas and Electric Company (PG&E) submitted a compliance filing pursuant to the Commission's Order issued in Docket Nos. ER04-142-000, ER04-143-000 and ER04-295-000 on April 16, 2004.

PG&E states that copies of PG&E's filing have been served upon each person designated on the official service list in these proceedings.

Comment Date: June 14, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1277 Filed 6-7-04; 8:45 am]

BILLING CODE 6717-01-P